DEPARTMENT OF COMMERCE

International Trade Administration

[C-469-818]

Ripe Olives From Spain: Final Results of Countervailing Duty Administrative Review; 2020

AGENCY: Enforcement and Compliance, International Trade Administration, Department of Commerce.

SUMMARY: The U.S. Department of Commerce (Commerce) determines that certain exporters/producers of ripe olives from Spain received countervailable subsidies during the period of review (POR) January 1, 2020, through December 31, 2020.

DATES: Applicable March 9, 2023.

FOR FURTHER INFORMATION CONTACT: Mary Kolberg or Theodore Pearson, AD/CVD Operations, Enforcement and Compliance, International Trade Administration, U.S. Department of Commerce, 1401 Constitution Avenue NW, Washington, DC 20230; telephone: (202) 482-1785 or (202) 482-2631, respectively.

SUPPLEMENTARY INFORMATION:

Background

Commerce published the Preliminary Results on September 6, 2022.¹ On November 7, 2022, we released the final verification reports,² and, on November 14, 2022, we invited parties to comment on the Preliminary Results.³ For a complete description of the events that occurred since the Preliminary Results, see the Issues and Decision Memorandum.⁴ On December 15, 2022, in accordance with section 751(a)(3)(A) of the Tariff Act of 1930, as amended (the Act), Commerce extended the deadline for issuing the final results until March 3, 2023.⁵

¹ See Ripe Olives from Spain: Preliminary Results of Countervailing Duty Administrative Review; 2020, 87 FR 54460 (September 6, 2022) (Preliminary Results).

² See Memorandum, “Verification of the Questionnaire Responses of Agro Sevilla Aceitunas S.Coop. And.,” dated November {7}, 2022; see also Memorandum, “Verification of the Questionnaire Responses of Angel Camacho Alimentacion, S.L. and Its Suppliers,” dated November {7}, 2022.

³ See Commerce's Letter, “Briefing Schedule,” dated November 14, 2022.

⁴ See Memorandum, “Issues and Decision Memorandum for the Final Results of the Countervailing Duty Administrative Review of Ripe Olives from Spain,” concurrently with, and hereby adopted by, this notice.

⁵ See Memorandum, “Extension of Deadline for Final Results of the Countervailing Duty Administrative Review 2020,” dated December 15, 2022.

Scope of the Order ⁶

⁶ See Ripe Olives from Spain: Amended Final Affirmative Countervailing Duty Determination and Countervailing Duty Order, 83 FR 37469 (August 1, 2018) (Order).

The products covered by the Order are ripe olives. A full description of the scope of the Order is contained in the Issues and Decision Memorandum.

Analysis of Comments Received

All issues raised by the interested parties in their case and rebuttal briefs are addressed in the Issues and Decision Memorandum. A list of these issues is provided in the appendix to this notice. The Issues and Decision Memorandum is a public document and is on file electronically via Enforcement and Compliance's Antidumping and CVD Centralized Electronic Service System (ACCESS). ACCESS is available to registered users at https://access.trade.gov. In addition, a complete version of the Issues and Decision Memorandum can be accessed directly at https://access.trade.gov/public/FRNoticesListLayout.aspx.

Verification

As provided in section 782(i)(3) of the Act, in September 2022, Commerce verified the subsidy information reported by Agro Sevilla Aceitunas S.Coop. And. (Agro Sevilla), Angel Camacho Alimentación, S.L. (Camacho) and certain suppliers to both companies. We used standard verification procedures, including an examination of relevant accounting and production records, and original source documents provided by Agro Sevilla, Camacho, and their suppliers.

Changes Since the Preliminary Results

Based on comments received from interested parties and issues originating from verification, we revised the calculation of the net countervailable subsidy rates for Agro Sevilla and Camacho. For a discussion of the issues, see the Issues and Decision Memorandum.

Methodology

Commerce conducted this administrative review in accordance with section 751(a)(1)(A) of the Act of 1930. For each of the subsidy programs found countervailable, we find that there is a subsidy, i.e., a government-provided financial contribution that gives rise to a benefit to the recipient, and that the subsidy is specific.⁷ For a full description of the methodology underlying all of Commerce's conclusions, including our reliance, in part, on facts otherwise available, including adverse facts available (AFA), pursuant to sections 776(a) and (b) of the Act, see the Issues and Decision Memorandum.

⁷ See sections 771(5)(B) and (D) of the Act regarding financial contribution; section 771(5)(E) of the Act regarding benefit; and section 771(5A) of the Act regarding specificity.

Non-Selected Companies' Rate

We made no changes to the methodology for determining a rate for companies not selected for individual examination from the Preliminary Results. However, due to changes in calculations for Agro Sevilla and Camacho, the non-selected rate changed for each of the three non-selected companies for which a review was requested and not rescinded. For these companies, we are applying an ad valorem subsidy rate of 8.50 percent.

Final Results of the Administrative Review

We find the following net countervailable subsidy rates for the POR January 1, 2020, through December 31, 2020:

Producer/exporter | Subsidy rate (percent ad valorem)
Agro Sevilla Aceitunas S.Coop. And | 8.83
Angel Camacho Alimentación, S.L. and its cross-owned affiliates ⁸ | 8.08
Review-Specific Average Rate Applicable to the Following Companies ⁹
Aceitunas Guadalquivir, S.L | 8.50
Alimentary Group Dcoop S.Coop. And | 8.50
Aceitunas Torrent, S.L | 8.50

Disclosure

⁸ Commerce found the following companies to be cross-owned with Angel Camacho Alimentación, S.L.: Grupo Angel Camacho, S.L., Cuarterola S.L., and Cucanoche S.L.

⁹ This rate is based on the rates for the respondents that were selected for individual review, excluding rates that are zero, de minimis, or based entirely on facts available. See section 705(c)(5)(A) of the Act.

We intend to disclose calculations and analysis performed for these final results of review within five days after the date of publication of this notice in the Federal Register in accordance with 19 CFR 351.224(b).

Assessment Requirements

In accordance with section 751(a)(2)(C) of the Act and 19 CFR 351.212(b)(2), Commerce shall determine, and CBP shall assess, countervailing duties on all appropriate entries covered by this review. Commerce intends to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, we also intend to instruct CBP to collect cash deposits of estimated countervailing duties in the amounts shown above for the above-listed companies with regard to shipments of subject merchandise entered, or withdrawn from warehouse, for consumption on or after the date of publication of these final results of review. For all non-reviewed firms, CBP will continue to collect cash deposits of estimated countervailing duties at the all-others rate or the most recent company-specific rate applicable to the company, as appropriate. These cash deposit requirements, when imposed, shall remain in effect until further notice.

Administrative Protective Order

This notice also serves as a final reminder to parties subject to an administrative protective order (APO) of their responsibility concerning the disposition of proprietary information disclosed under APO in accordance with 19 CFR 351.305(a)(3). Timely written notification of the return or destruction of APO materials or conversion to judicial protective order, is hereby requested. Failure to comply with the regulations and terms of an APO is a sanctionable violation.

Notification to Interested Parties

The final results are issued and published in accordance with sections 751(a)(1) and 777(i)(1) of the Act and 19 CFR 351.221(b)(5).

Dated: March 3, 2023.
Lisa W. Wang,
Assistant Secretary for Enforcement and Compliance.

Appendix

List of Topics Discussed in the Issues and Decision Memorandum

I. Summary

II. Background

III. Scope of the Order

IV. Subsidies Valuation

V. Use of Facts Otherwise Available and Adverse Inferences

VI. Non-Selected Rate

VII. Analysis of Programs

VIII. Analysis of Comments

Comment 1: Whether Commerce's Substantial Dependence Finding is Lawful and Supported by Substantial Evidence

Comment 2: Whether Commerce Should Apply AFA to All of Camacho's Growers Because Two Growers Failed Verification

Comment 3: Whether Agro Sevilla's Non-Responsive Growers Should Receive an AFA Rate Because They Are Affiliated with Agro Sevilla

Comment 4: Whether Commerce Should Include Two of Camacho's Suppliers in the BPS Program Calculation Since They Were Primarily Suppliers and Only Grew a Small Portion of Their Olives

Comment 5: Whether Commerce Should Correct a Ministerial Error Regarding One of Agro Sevilla's First-Tier Suppliers

IX. Recommendation

[FR Doc. 2023-04851 Filed 3-8-23; 8:45 am]

BILLING CODE 3510-DS-P